DEPARTMENT OF TRANSPORTATION

Federal Aviation Administration

14 CFR Part 39

[Docket No. FAA-2020-0347; Product Identifier 2020-NM-042-AD; Amendment 39-21277; AD 2020-21-04]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A300 F4-600R series airplanes. This AD was prompted by a report of damaged main deck cargo crossbeams on the right-hand side, between certain frame locations. This AD requires repetitive detailed inspections of the affected main deck cargo crossbeams for any damage, and depending on findings, accomplishment of applicable corrective actions, as specified in a European Union Aviation Safety Agency (EASA) AD, which is incorporated by reference. The FAA is issuing this AD to address the unsafe condition on these products.

DATES: This AD is effective November 18, 2020.

The Director of the Federal Register approved the incorporation by reference of a certain publication listed in this AD as of November 18, 2020.

ADDRESSES: For material incorporated by reference (IBR) in this AD, contact the EASA, Konrad-Adenauer-Ufer 3, 50668 Cologne, Germany; phone: +49 221 8999 000; email: ADs@easa.europa.eu; internet: www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0347.

Examining the AD Docket

You may examine the AD docket on the internet at https://www.regulations.gov by searching for and locating Docket No. FAA-2020-0347; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th St., Des Moines, WA 98198; phone and fax: 206-231-3225; email: dan.rodina@faa.gov.

SUPPLEMENTARY INFORMATION:

Discussion

The EASA, which is the Technical Agent for the Member States of the European Union, has issued EASA AD 2020-0050, dated March 9, 2020; corrected March 11, 2020 (“EASA AD 2020-0050”) (also referred to as the Mandatory Continuing Airworthiness Information, or “the MCAI”), to correct an unsafe condition for certain Airbus SAS Model A300 F4-600R series airplanes.

The FAA issued a notice of proposed rulemaking (NPRM) to amend 14 CFR part 39 by adding an AD that would apply to certain Airbus SAS Model A300 F4-600R series airplanes. The NPRM published in the Federal Register on May 1, 2020 (85 FR 25356). The NPRM was prompted by a report of damaged main deck cargo crossbeams on the right-hand side, between certain frame locations. The NPRM proposed to require repetitive detailed inspections of the affected main deck cargo crossbeams for any damage, and depending on findings, accomplishment of applicable corrective actions, as specified in an EASA AD.

The FAA is issuing this AD to address damaged main deck cargo crossbeams, which could adversely affect the structural integrity of the airplane. See the MCAI for additional background information.

Comments

The FAA gave the public the opportunity to participate in developing this final rule. The following presents the comments received on the NPRM and the FAA's response to each comment.

Request To Withdraw the NPRM

United Parcel Service Co. (UPS) requested that the FAA withdraw the NPRM. UPS pointed out that the NPRM duplicates multiple tasks and the associated task intervals specified in the Airbus A300-600 Maintenance Planning Document (MPD) that inspect the same area and structure. UPS also stated that those specific tasks are part of its approved Maintenance Specification Manual (MSM). UPS mentioned that the unsafe condition was discovered as a direct result of the tasks specified in the Airbus A300-600 MPD. UPS insisted that the existing tasks in the A300-600 MPD and UPS's MSM meet or exceed the requirements of the NPRM.

The FAA disagrees with the commenter's request. Although the tasks and the associated task intervals specified in the A300-600 MPD may be duplicated in the requirements of this AD, those tasks and intervals specified in the A300-600 MPD are not necessarily mandatory for all affected U.S. registered airplanes. However, this FAA AD mitigates the identified unsafe condition with mandatory tasks and intervals for all affected airplanes. Because this unsafe condition could exist or develop on Model A300 F4-600R series airplanes, mandatory repetitive inspections of the affected area are necessary to ensure the safety of the fleet. Issuance of an AD is the appropriate method to correct an unsafe condition. This AD has not been changed in this regard.

Request To Remove the Reporting Requirement

UPS requested that the FAA remove the reporting requirement in the NPRM. UPS mentioned that the reporting requirement does not add value or help in resolving the unsafe condition. UPS pointed out that Airbus has a ten year history of service evaluation for this item, including multiple parts removed from service and returned to Airbus for evaluation. UPS stated that repetitive reporting of which crossbeams are identified as discrepant would not provide any further technical information that would result in a different resolution to the unsafe condition.

The FAA disagrees with the commenter's request. Reporting allows the manufacturer to collect airworthiness information from all operators in order to fully understand the extent of the unsafe condition, especially in cases where that data might not be available through other means. This information will be used to determine that the unsafe condition is adequately addressed. Based on the results of these reports, we might determine that further corrective action is warranted. This AD has not been changed in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2020-0050 describes procedures for repetitive detailed inspections of the affected main deck cargo crossbeams from frame (FR) 48 to FR54 for any damage (including bent, curved, and cracked crossbeams), corrective actions, and terminating actions. Corrective actions include detailed inspections of the right-hand and left-hand crossbeams and lugs for damage (including buckling and cracking) and correct diameter of the lug/crossbeam holes, repair, and replacement of damaged crossbeams. Optional terminating actions include replacement of crossbeams with reinforced machined crossbeams. This material is reasonably available because the interested parties have access to it through their normal course of business or by the means identified in the ADDRESSES section.

Costs of Compliance

The FAA estimates that this AD affects 52 airplanes of U.S. registry. The FAA estimates the following costs to comply with this AD:

Estimated Costs for Required Actions
Labor cost | Parts cost | Cost per product | Cost on U.S. operators
6 work-hours × $85 per hour = $510 | $0 | $510 | $26,520

The FAA estimates that it would take about 1 work-hour per product to comply with the reporting requirement in this AD. The average labor rate is $85 per hour. Based on these figures, the FAA estimates the cost of reporting the inspection results on U.S. operators to be $4,420, or $85 per product.

The FAA estimates the following costs to do any necessary on-condition repairs that would be required based on the results of any required actions. The FAA has no way of determining the number of aircraft that might need these on-condition actions:

Estimated Costs of On-Condition Repairs
Labor cost | Parts cost | Cost per product
6 work-hours × $85 per hour = $510 | $10,000 | $10,510

The FAA has received no definitive data that would enable the FAA to provide cost estimates for the on-condition inspections and replacements specified in this AD.

The FAA estimates the following costs to do the optional terminating actions specified in this AD.

Estimated Costs for Optional Terminating Actions
Labor cost | Parts cost | Cost per product
18 work-hours × $85 per hour = $1,530 | $10,000 | $11,530

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-21-04 Airbus SAS: Amendment 39-21277; Docket No. FAA-2020-0347; Product Identifier 2020-NM-042-AD.

(a) Effective Date

This AD is effective November 18, 2020.

(b) Affected ADs

None.

(c) Applicability

This AD applies to Airbus SAS Model A300 F4-605R and F4-622R airplanes, certificated in any category, as identified in European Union Aviation Safety Agency (EASA) AD 2020-0050, dated March 9, 2020; corrected March 11, 2020 (“EASA AD 2020-0050”).

(d) Subject

Air Transport Association (ATA) of America Code 53, Fuselage.

(e) Reason

This AD was prompted by a report of damaged main deck cargo crossbeams on the right-hand side, between certain frame locations. The FAA is issuing this AD to address damaged main deck cargo crossbeams, which could adversely affect the structural integrity of the airplane.

(f) Compliance

Comply with this AD within the compliance times specified, unless already done.

(g) Requirements

Except as specified in paragraph (h) of this AD: Comply with all required actions and compliance times specified in, and in accordance with, EASA AD 2020-0050.

(h) Exceptions to EASA AD 2020-0050

(1) Where EASA AD 2020-0050 refers to its effective date, this AD requires using the effective date of this AD.

(2) The “Remarks” section of EASA AD 2020-0050 does not apply to this AD.

(3) Paragraph (4) of EASA AD 2020-0050 specifies to report inspection results to Airbus within a certain compliance time. For this AD, report inspection results at the applicable time specified in paragraph (h)(3)(i) or (ii) of this AD.

(i) If the inspection was done on or after the effective date of this AD: Submit the report within 30 days after the inspection.

(ii) If the inspection was done before the effective date of this AD: Submit the report within 30 days after the effective date of this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0050 that contains RC procedures and tests: Except as required by paragraphs (h)(3) and (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory as required by this AD. Send comments regarding this burden estimate or any other aspect of this collection of information, including suggestions for reducing this burden to Information Collection Clearance Officer, Federal Aviation Administration, 10101 Hillwood Parkway, Fort Worth, TX 76177-1524.

(j) Related Information

For more information about this AD, contact Dan Rodina, Aerospace Engineer, Large Aircraft Section, International Validation Branch, FAA, 2200 South 216th St., Des Moines, WA 98198; phone and fax: 206-231-3225; email: dan.rodina@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0050, dated March 9, 2020; corrected March 11, 2020.

(ii) [Reserved]

(3) For EASA AD 2020-0050, contact the EASA, Konrad-Adenauer-Ufer 3, 50668 Cologne, Germany; phone: +49 221 8999 000; email: ADs@easa.europa.eu; internet: www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0347.

(5) You may view this material that is incorporated by reference at the National Archives and Records Administration (NARA). For information on the availability of this material at NARA, email fedreg.legal@nara.gov, or go to: https://www.archives.gov/federal-register/cfr/ibr-locations.html.

Issued on October 1, 2020.
Gaetano A. Sciortino,
Deputy Director for Strategic Initiatives, Compliance & Airworthiness Division, Aircraft Certification Service.

[FR Doc. 2020-22622 Filed 10-13-20; 8:45 am]

BILLING CODE 4910-13-P